DEPARTMENT OF HOMELAND SECURITY

Federal Emergency Management Agency

[Docket ID FEMA-2017-0002; Internal Agency Docket No. FEMA-B-1727]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 30, 2017.
Roy E. Wright,
Deputy Associate Administrator for Insurance and Mitigation, Department of Homeland Security, Federal Emergency Management Agency.

State and county | Location and case No. | Chief executive officer of community | Community map repository | Online location of letter of map revision | Effective date of modification | Community No.
Alabama:
Jefferson | City of Birmingham (17-04-3064X) | The Honorable William A. Bell, Sr., Mayor, City of Birmingham, 710 North 20th Street, 3rd Floor, Birmingham, AL 35203 | City Hall, 710 North 20th Street, 3rd Floor, Birmingham, AL 35203 | http://www.msc.fema.gov/lomc | Aug. 28, 2017 | 010116
Jefferson | Unincorporated areas of Jefferson County (16-04-6806P) | The Honorable James A. Stephens, Chairman, Jefferson County Board of Commissioners, 716 Richard Arrington, Jr. Boulevard North, Birmingham, AL 35203 | Jefferson County Land Development Department, 716 Richard Arrington, Jr. Boulevard North, Birmingham, AL 35203 | http://www.msc.fema.gov/lomc | Aug. 17, 2017 | 010217
Jefferson | Unincorporated areas of Jefferson County (17-04-3064X) | The Honorable James A. Stephens, Chairman, Jefferson County Board of Commissioners, 716 Richard Arrington, Jr. Boulevard North, Birmingham, AL 35203 | Jefferson County Land Development Department, 716 Richard Arrington, Jr. Boulevard North, Birmingham, AL 35203 | http://www.msc.fema.gov/lomc | Aug. 28, 2017 | 010217
Florida:
Lee | Town of Fort Myers Beach (16-04-8301P) | The Honorable Dennis C. Boback, Mayor, Town of Fort Myers Beach, 2525 Estero Boulevard, Fort Myers Beach, FL 33931 | Community Development Department, 2525 Estero Boulevard, Fort Myers Beach, FL 33931 | http://www.msc.fema.gov/lomc | Sep. 6, 2017 | 120673
Lee | Unincorporated areas of Lee County (16-04-8301P) | The Honorable Frank Mann, President, Lee County Board of Commissioners, 2120 Main Street, Fort Myers, FL 33901 | Lee County Community Development Department, 1500 Monroe Street, Fort Myers, FL 33901 | http://www.msc.fema.gov/lomc | Sep. 6, 2017 | 120124
Manatee | Unincorporated areas of Manatee County (16-04-8240P) | The Honorable Betsy Benac, Chair, Manatee County Board of Commissioners, P.O. Box 1000, Bradenton, FL 34206 | Manatee County Building and Development Services Department, 1112 Manatee Avenue West, Bradenton, FL 34205 | http://www.msc.fema.gov/lomc | Sep. 8, 2017 | 120153
Miami-Dade | City of Miami (16-04-7715P) | The Honorable Tomas P. Regalado, Mayor, City of Miami, 3500 Pan American Drive, Miami, FL 33133 | Building Department, 444 Southwest 2nd Avenue, 4th Floor, Miami, FL 33130 | http://www.msc.fema.gov/lomc | Sep. 5, 2017 | 120650
St. Johns | Unincorporated areas of St. Johns County (17-04-1263P) | The Honorable James K. Johns, Chairman, St. Johns County Board of Commissioners, 500 San Sebastian View, St. Augustine, FL 32084 | St. Johns County Building Services Division, 4040 Lewis Speedway, St. Augustine, FL 32084 | http://www.msc.fema.gov/lomc | Aug. 31, 2017 | 125147
Sarasota | Unincorporated areas of Sarasota County (17-04-0651P) | The Honorable Paul Caragiulo, Chairman, Sarasota County Board of Commissioners, 1660 Ringling Boulevard, Sarasota, FL 34236 | Sarasota County Development Services Department, 1001 Sarasota Center Boulevard, Sarasota, FL 34236 | http://www.msc.fema.gov/lomc | Aug. 11, 2017 | 125144
Seminole | City of Altamonte Springs (17-04-1381P) | The Honorable Patricia Bates, Mayor, City of Altamonte Springs, 225 Newburyport Avenue, Altamonte Springs, FL 32701 | Public Works Department, 225 Newburyport Avenue, Altamonte Springs, FL 32701 | http://www.msc.fema.gov/lomc | Sep. 1, 2017 | 120290
Georgia:
Cherokee | City of Canton (16-04-5695P) | The Honorable Gene Hobgood, Mayor, City of Canton, 151 Elizabeth Street, Canton, GA 30114 | City Hall, 151 Elizabeth Street, Canton, GA 30114 | http://www.msc.fema.gov/lomc | Sep. 5, 2017 | 130039
Cherokee | Unincorporated areas of Cherokee County (16-04-5695P) | The Honorable L.B. Ahrens, Jr., Chairman, Cherokee County Board of Commissioners, 1130 Bluffs Parkway, Canton, GA 30114 | Cherokee County Public Works Department, 1130 Bluffs Parkway, Canton, GA 30114 | http://www.msc.fema.gov/lomc | Sep. 5, 2017 | 130424
Maryland:
Anne Arundel | Unincorporated areas of Anne Arundel County (17-03-0502P) | The Honorable Steve R. Schuh, Anne Arundel County Executive, 44 Calvert Street, Annapolis, MD 21401 | Anne Arundel County Heritage Complex, 2664 Riva Road, Annapolis, MD 21401 | http://www.msc.fema.gov/lomc | Sep. 5, 2017 | 240008
Mississippi:
Rankin | City of Pearl (17-04-0485P) | The Honorable Brad Rogers, Mayor, City of Pearl, P.O. Box 5948, Pearl, MS 39288 | Community Development Department, 2420 Old Brandon Road, Pearl, MS 39208 | http://www.msc.fema.gov/lomc | Aug. 31, 2017 | 280145
North Carolina:
Wake | Town of Apex (17-04-1615P) | The Honorable Lance Olive, Mayor, Town of Apex, P.O. Box 250, Apex, NC 27502 | Engineering Department, 73 Hunter Street, Apex, NC 27502 | http://www.msc.fema.gov/lomc | Sep. 5, 2017 | 370467
Wake | Town of Cary (17-04-1615P) | The Honorable Harold Weinbrecht, Jr., Mayor, Town of Cary, P.O. Box 8005, Cary, NC 27512 | Stormwater Services Division, 316 North Academy Street, Cary, NC 27511 | http://www.msc.fema.gov/lomc | Sep. 5, 2017 | 370238
Oklahoma:
Tulsa | City of Tulsa (17-06-0933P) | The Honorable G.T. Bynum, Mayor, City of Tulsa, 175 East 2nd Street, Tulsa, OK 74103 | Engineering Services Department, 2317 South Jackson Avenue, Tulsa, OK 74107 | http://www.msc.fema.gov/lomc | Sep. 11, 2017 | 405381
Texas:
Bexar | City of Fair Oaks Ranch (16-06-3504P) | The Honorable Garry Manitzas, Mayor, City of Fair Oaks Ranch, 7286 Dietz Elkhorn Road, Fair Oaks Ranch, TX 78015 | Public Works Department, 7286 Dietz Elkhorn Road, Fair Oaks Ranch, TX 78015 | http://www.msc.fema.gov/lomc | Aug. 28, 2017 | 481644
Dallas | City of Irving (16-06-4337P) | The Honorable Beth Van Duyne, Mayor, City of Irving, 825 West Irving Boulevard, Irving, TX 75060 | Capital Improvement Program Department, Engineering Section, 825 West Irving Boulevard, Irving, TX 75060 | http://www.msc.fema.gov/lomc | Sep. 11, 2017 | 480180
Denton | City of Frisco (17-06-0579P) | The Honorable Maher Maso, Mayor, City of Frisco, 6101 Frisco Square Boulevard, Frisco, TX 75034 | Engineering Services Department, 6101 Frisco Square Boulevard, Frisco, TX 75034 | http://www.msc.fema.gov/lomc | Sep. 5, 2017 | 480134
Denton | City of Justin (16-06-3379P) | The Honorable Greg Scott, Mayor, City of Justin, P.O. Box 129, Justin, TX 76247 | City Hall, 415 North College Avenue, Justin, TX 76248 | http://www.msc.fema.gov/lomc | Aug. 24, 2017 | 480778
Denton | Town of Flower Mound (17-06-0304P) | The Honorable Thomas Hayden, Mayor, Town of Flower Mound, 2121 Cross Timbers Road, Flower Mound, TX 75028 | Engineering Department, 2121 Cross Timbers Road, Flower Mound, TX 75028 | http://www.msc.fema.gov/lomc | Sep. 7, 2017 | 480777
Harris | City of Houston (16-06-4198P) | The Honorable Sylvester Turner, Mayor, City of Houston, P.O. Box 1562, Houston, TX 77251 | Floodplain Management Department, 1002 Washington Avenue, Houston, TX 77002 | http://www.msc.fema.gov/lomc | Aug. 28, 2017 | 480296
Harris | City of Missouri City (16-06-4198P) | The Honorable Allen Owen, Mayor, City of Missouri City, 1522 Texas Parkway, Missouri City, TX 77489 | City Hall, 1522 Texas Parkway, Missouri City, TX 77489 | http://www.msc.fema.gov/lomc | Aug. 28, 2017 | 480304
Kendall | Unincorporated areas of Kendall County (16-06-3504P) | The Honorable Darrel L. Lux, Kendall County Judge, 201 East San Antonio Avenue, Suite 122, Boerne, TX 78006 | Kendall County Engineering Department, 201 East San Antonio Avenue, Suite 101, Boerne, TX 78006 | http://www.msc.fema.gov/lomc | Aug. 28, 2017 | 480417
Williamson | City of Leander (17-06-1136P) | The Honorable Christopher Fielder, Mayor, City of Leander, P.O. Box 319, Leander, TX 78646 | City Hall, 200 West Wills Street, Leander, TX 78641 | http://www.msc.fema.gov/lomc | Aug. 18, 2017 | 481536
Utah:
Salt Lake | City of West Jordan (17-08-0033P) | The Honorable Kim Rolfe, Mayor, City of West Jordan, 8000 South Redwood Road, West Jordan, UT 84088 | City Hall, 8000 South Redwood Road, West Jordan, UT 84088 | http://www.msc.fema.gov/lomc | Aug. 28, 2017 | 490108
Summit | City of Park City, (16-08-1092P) | The Honorable Jack Thomas, Mayor, City of Park City, 445 Marsac Avenue, Park City, UT 84060 | City Hall, 445 Marsac Avenue, Park City, UT 84060 | http://www.msc.fema.gov/lomc | Aug. 31, 2017 | 490139

[FR Doc. 2017-13562 Filed 6-28-17; 8:45 am]

BILLING CODE 9110-12-P